DEPARTMENT OF EDUCATION

List of Correspondence From April 1, 2012, Through June 30, 2012

AGENCY: Office of Special Education and Rehabilitative Services; Department of Education.

ACTION: Notice.

SUMMARY: The Secretary is publishing the following list of correspondence from the U.S. Department of Education (Department) to individuals during the previous quarter. The correspondence describes the Department's interpretations of the Individuals with Disabilities Education Act (IDEA) or the regulations that implement the IDEA. This list and the letters or other documents described in this list, with personally identifiable information redacted, as appropriate, can be found at: www2.ed.gov/policy/speced/guid/idea/index.html.

FOR FURTHER INFORMATION CONTACT: Jessica Spataro or Mary Louise Dirrigl. Telephone: (202) 245-7468.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7468.

SUPPLEMENTARY INFORMATION: The following list identifies correspondence from the Department issued from April 1, 2012, through June 30, 2012. Under section 607(f) of the IDEA, the Secretary is required to publish this list quarterly in the Federal Register. The list includes those letters that contain interpretations of the requirements of the IDEA and its implementing regulations, and it may also include letters and other documents that the Department believes will assist the public in understanding the requirements of the law. The list identifies the date and topic of each letter, and it provides summary information, as appropriate. To protect the privacy interests of the individual or individuals involved, personally identifiable information has been redacted, as appropriate.

Part B—Assistance for Education of All Children With Disabilities

Section 602—Definitions

Topic Addressed: Special Education and Related Services

○ Letter dated May 9, 2012, to Special Education Advocate Ellen M. Chambers, regarding whether instruction or services provided in a school district's regular education program can be considered “specially-designed instruction” or “related services.”

Section 612—State Eligibility

Topic Addressed: Least Restrictive Environment

○ Letter dated June 22, 2012, to Disability Rights Wisconsin Managing Attorney Jeffrey Spitzer-Resnick, regarding how the least restrictive environment requirements apply to work placements that are part of a student's transition plan.

Topic Addressed: Children In Private Schools

○ Letter dated June 13, 2012, to East End Special Education Parents, Inc., President Kathleen Chamberlain, regarding children with disabilities enrolled by their parents in private schools when free appropriate public education (FAPE) is at issue and clarification of child find requirements for parentally placed private school children.

Section 613—Local Educational Agency Eligibility

Topic Addressed: Maintenance of Effort

○ Letter dated April 4, 2012, to Center for Law and Education co-director Kathleen Boundy, regarding the local educational agency (LEA) maintenance of

Section 614—Evaluations, Eligibility Determinations, Individualized Education Programs, and Educational Placements

Topic Addressed: Revocation Of Consent

○ Letter dated June 6, 2012, to West Virginia attorney James Gerl, regarding whether an LEA may offer mediation when parents revoke consent to the continued provision of special education and related services to their child.

Topic Addressed: Evaluations, Parental Consent, and Reevaluations

○ Letter dated April 9, 2012, to individual (personally identifiable information redacted), regarding various requirements of Part B of the IDEA, including functional behavioral assessments, out-of-State transfer students, State complaint procedures, and education records.

○ Letter dated April 11, 2012, to Cumberland County Schools Exceptional Children's Programs Executive Director Ruben A. Reyes, regarding timeframes for initial evaluations.

Topic Addressed: Individualized Education Programs for Transfer Students

○ Letter dated April 10, 2012, to Little Cypress-Mauriceville Special Programs Director Robert H. Finch, regarding comparable services for transfer students.

Section 615—Procedural Safeguards

Topic Addressed: Prior Written Notice

○ Letter dated April 26, 2012, to Family Soup Executive Director Cindy E. Chandler, regarding when an LEA must provide prior written notice to parents.

Topic Addressed: Resolution Process

○ Letter dated April 23, 2012, to Maryland attorney Michael J. Eig, regarding parent participation in resolution meetings.

Topic Addressed: Discipline Procedures

○ Letter dated June 21, 2012, to New York attorney Edward Sarzynski, regarding how discipline procedures apply to bus suspensions (when school districts temporarily prohibit a student from riding the bus).

○ Letter dated June 22, 2012, to Virginia Department of Education Assistant Superintendent H. Douglas Cox, regarding timelines for expedited due process hearings when school is not in session.

Section 616—Monitoring, Technical Assistance, and Enforcement

Topic Addressed: Federal and State Monitoring

○ Letter dated June 26, 2012, to U.S. Congresswoman Lynn C. Woolsey, regarding the Office of Special Education Programs' monitoring of States' compliance with requirements of the IDEA.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: December 26, 2012.
Michael Yudin,
Acting Assistant Secretary for Special Education and Rehabilitative Services.

[FR Doc. 2012-31435 Filed 12-28-12; 8:45 am]

BILLING CODE 4000-01-P